DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with November anniversary dates. In accordance with Commerce's regulations, we are initiating those administrative reviews.

DATES: Applicable January 17, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with November anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at http://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than November 30, 2020.

⁵ In the initiation notice that published on December 11, 2019 (84 FR 67712) Commerce inadvertently listed certain U.S. companies that are not under review and omitted one company for a which a review was requested. The companies identified herein represent the complete list of companies under review.

| Period to be reviewed
AD Proceedings
Australia: Hot-Rolled Steel Flat Products,⁵ A-602-809 | 10/1/18-9/30/19
AJU Steel USA Inc.
BlueScope Steel, Ltd.
Indonesia: Monosodium Glutamate, A-560-826 | 11/1/18-10/31/19
PT Cheil Jedang Indonesia
PT Miwon Indonesia
Mexico: Circular Welded Non-Alloy Steel Pipe, A-201-805 | 11/1/18-10/31/19
Abastecedora y Perfiles y Tubos, S.A. de C.V.
ArcelorMittal Tubular Products Monterrey, S.A. de C.V.
Arceros El Aguila y Arco Metal, S.A. de C.V.
Burner Systems International De Mexico, S.A. de C.V.
Conduit, S.A. de C.V.
Fabricaciones Industriales Tumex, S.A. de C.V.
fischer Mexicana Stainless Steel Tubing S.A. de C.V.
fischer Tubtech S.A de C.V.
Forza Steel, S.A. de C.V.
Galvak, S.A. de C.V.
Impulsora Tlaxcalteca de Industrias, S.A. de C.V.
Industrias Monterrey S.A. de C.V.
La Metalica S.A. de C.V.
Lamina y Placa Comercial, S.A. de C.V.
Mach 1 Aero Servicios, S. de R.L. de C.V.
Mach 1 Global Services, Inc.
Maquilacero, S.A. de C.V.
Metalsa S.A.
Mueller Comercial de Mexico, S. de R.L. de C.V.
Nacional de Acero, S.A de C.V.
Nova Tube and Coil de Mexico, S. de R.L. de C.V.
Perfiles y Herrajes LM, S.A. de C.V.
Precitubo S.A de C.V.
Productos Especializados de Acero, S.A. de C.V.
Productos Laminados de Monterrey, S.A. de C.V.
PYTCO, S.A. de C.V.
Regiomontana de Perfiles y Tubos, S.A. de C.V.
Servicios Swecomex, S.A. de C.V.
Talleres Acerorey, S.A. de C.V.
Ternium Mexico, S.A. de C.V.
Tubac, S.A. de C.V.
Tubacero S. de R.L. de C.V.
Tuberia Laguna, S.A. de C.V.
Tuberias Procarsa, S.A. de C.V.
Tubesa, S.A. de C.V.
Tubos Omega
Mexico: Steel Concrete Reinforcing Bar, A-201-844 | 11/1/18-10/31/19
AceroMex S.A.
Aceros Especiales Simec Tlaxcala
Arcelor Mittal
ArcelorMittal Celaya
ArcelorMittal Cordoba S.A. de C.V.
ArcelorMittal Lazaro Cardenas S.A. de C.V.
Cia Siderurgica De California, S.A. de C.V.
Compania Siderurgica de California, S.A. de C.V.
DE ACERO SA. DE CV.
Deacero, S.A.P.I. de C.V.
Grupo Simec
Grupo Villacero S.A. de C.V.
Industrias CH
Orge S.A. de C.V.
Siderurgica Tultitlan S.A. de C.V.
Simec International S.A. de C.V.
Talleres y Aceros, S.A. de C.V.
Ternium Mexico, S.A. de C.V.
Republic of Korea: Certain Hot-Rolled Steel Flat Products,⁶ A-580-883 | 10/1/18-9/30/19
Marubeni-Itochu Steel Korea Ltd.
Soon Hong Trading Co.
The People's Republic of China: Certain Hot-Rolled Carbon Steel Flat Products, A-570-865 | 11/1/18-10/31/19
Angang Cold Rolling Sheet (Putian)
Angang Steel Co. Ltd.—Anshan Plant
Anshan Iron & Steel (Group) Corp
Anshan Zizhu Heavy Special Steel Co. Ltd.
Anyang Iron & Steel Group
Asia Minmetals Machinery Co. Ltd.
Baihualin Metal Industry Group Co. Ltd.
Baoshan Iron & Steel Co Ltd. (Baosteel Co. Ltd.)
Baosteel Group Corp.
Baosteel Group Xinjiang Bayi Iron & Steel Co. Ltd.
Baosteel Huangshi Coated and Galvanized Sheet Co. Ltd.
Baosteel-NSC/ArcelorMittal Automotive Steel Sheet Co. Ltd. BNA
Baosteel Group Shanghai Meishan Co. Ltd.
Baosteel Stainless Steel Co. Ltd.
Baotou Iron and Steel (Group) Co. Ltd.
Bayi Iron & Steel Co. Ltd.
Bazhou Wanlu Metal Production Co. Ltd.
Bazhou Jinghua Metal Products Co. Ltd.
Beijing Hongyuan Steel Structure Engineering Co. Ltd.
Beijing Wanhua Metal Rolling Co. Ltd.
Beitai Iron & Steel Group Co.
Benlog International Steel Co. Ltd.
Benxi Iron & Steel (Group) Special Steel Co. Ltd.
BlueScope (Suzhou) Co. Ltd.
Bohai Iron & Steel Group
Changhe Strip Steel Co. Ltd.
Changshu Everbright Material Technology Co. Ltd.
Changshu Huaye Steel Strip Co. Ltd.
Changshu Jiacheng Coated Steel Co. Ltd.
Changzhou Dingang Metal Material Co. Ltd.
Chengde Iron & Steel Group Co. Ltd.
China Lanjiang Steel Group Co. Ltd.
Chengdu Iron & Steel Co. Ltd.
China Oriental Group Co. Ltd.
China South East Special Steel Group Co. Ltd.
Chongqing Iron & Steel (Group) Co. Ltd.
Chuangye Sheet Metal Co. Ltd.
Dafeng Honglian Cast Steel Co. Ltd.
Dalian POSCO Steel Co. Ltd.
Dalian Pujin Steel Plate Co. Ltd.
Daye Special Steel Co. Ltd.
Delong Holdings Ltd.
Dongbei Special Steel Group Co. Ltd.
Dongguan Yusheng Steel Co. Ltd.
Dongguan Bo Yunte Metal Co. Ltd.
Dongyang Global Strip Steel Co. Ltd.
Fengchi Refractories Co. of Haicheng City (Fengchi Group)
Foshan Apex Stainless Steel Co. Ltd.
Foshan Gaoming Jiye Cold Rolling Steel Plate Industrial Co. Ltd.
Foshan Jinxi Jinlan Cold Rolled Sheets Co. Ltd.
Foshan Vinmay Stainless Steel Co. Ltd.
Fujian Casey Steel Group Co. Ltd.
Fujian Fuxin Special Steel Co. Ltd.
Fujian Kaijing Steel Development Co. Ltd.
Fujian Sansteel (Group) Co. Ltd.
Fujian Wuhang Stainless Steel Products Co. Ltd.
Fuzhou Ruilian Iron & Steel Co. Ltd.
Guangdong Hanjiang Steel Plate Co. Ltd.
Guangdong Huaguan Steel Co. Ltd.
Guangdong Huamei Co. Ltd.
Guangdong Qingyuan Dongshang Steel Co. Ltd.
Guangzhou JFE Steel Sheet Co. Ltd.
Guangzhou Jinlai Cold-Rolling Strip Steel Co. Ltd.
Handan Iron & Steel Group Co. Ltd.
Handan ZhuoLi Fine Steel Plate Co. Ltd.
Handan Zongheng Iron & Steel Group Co. Ltd.
Hangzhou Iron & Steel Group Co.
Haverer Group Ltd.
Hebei Dexing Sheet Co. Ltd.
Hebei Dongshan Metallurgy Industry Co. Ltd.
Hebei Iron & Steel Group Co. Ltd.
Hebei Luanhe Industrial Group Co. Ltd.
Hebei Puyang Iron & Steel Group
Hebei Qian'an Iron & Steel Co. Ltd.
Hebei Sunpo Metal Products Co. Ltd.
Hebei Tianjie Pipeline Equipment Co. Ltd.
Hebei Xinjin Iron & Steel Co. Ltd.
Hebei Yanshan Iron & Steel Co. Ltd.
Hebei Zhonggang Steel Co. Ltd.
Hengshui Jinghua Steel Pipe Co. Ltd.
Henan Jianhui Machinery Co. Ltd.
Hualu Steel Co. Ltd.
Huangshi Shanli Technology Development Co. Ltd.
Hunan Valin Iron and Steel Group Co. Ltd.
Hunan Valin Lianyuan Iron & Steel Co. Ltd.
Hunan Valin Xiangtan Iron & Steel (Group) Co. Ltd.
Inner Mongolia Huaye Special Steel Co. Ltd.
Jarway Metal Co Ltd
JFE Steel Corp (Guangzhou)
Jiangsu Cold Rolled (Sutor Group)
Jiangsu Dajiang Metal Material Co. Ltd.
Jiangsu Gangzheng Steel Sheet Science and Technology Co. Ltd.
Jiangsu Guoqiang Zinc-Plating Ind. Co. Ltd.
Jiangsu Jiangnan Cold-Rolled Co. Ltd.
Jiangsu Jiangnan Industrial Group Co. Ltd.
Jiangsu Jida Precision Sheet Co. Ltd.
Jiangsu Jijing Metal Technology Co. Ltd.
Jiangsu Qiyuan Group Co. Ltd.
Jiangsu Shagang Group Co. Ltd.
Jiangxi Hongdu SteelWorks Co. Ltd.
Jiangyin Hongrun Strip Steel Co. Ltd.
Jiangyin Huaxi Iron & Steel Co. Ltd.
Jiangyin Jinsong Stainless Steel Co. Ltd.
Jiangsu Xicheng Sanlian Holding Group
Jiangyin Zongcheng Steel Co. Ltd.
Jianlong Group
Jiaxing Kangshida Stainless Steel Co. Ltd.
JinLan Group
Jianlong Heavy Industry Group Co. Ltd.
Jigang Group Co. Ltd.
Jinan Iron & Steel Co. Ltd.
Jinxi Jinlan Cold Rolled Sheets Co. Ltd.
Jinxi Iron & Steel Group Co. Ltd.
Jiangxi Shanlong Strip Steel Co. Ltd.
Jiuquin Iron & Steel (Group) Co. Ltd. (JISCO)
Kunming Iron & Steel (Group) Co. Ltd. (Kisco)
Laiwu Steel Group Ltd.
Langfang Fuxin Steel Plate Co. Ltd.
Lianyuan Iron & Steel Group Co. Ltd.
Liaoning Jiayi Metals & Minerals Co. Ltd.
Liainzhong Stainless Steel Corp (LISCO)
Lingyuan Iron & Steel (Group) Co. Ltd.
Lin Qing Hongji (Group) Co. Ltd.
Liuzhou Iron & Steel Co.
Maanshan Iron & Steel Co. Ltd.
Nanjing Iron & Steel United Co. Ltd. (NISCO)
Ningbo Baoxin Stainless Steel Co Ltd.
Ningbo Iron & Steel Co. Ltd.
Ningbo Marina Xi Tie Long Industry Co. Ltd.
Ningbo QiYi Precision Metals Co. Ltd.
Ningbo Sanshi Metal Co. Ltd.
Ningbo Yaoyi Stainless Steel Co. Ltd.
Ningbo Zhongmeng Iron & Steel Co. Ltd.
North Steel Group
Pangang Group Chengdu Steel & Vanadium Co. Ltd.
Panhua Group Co. Ltd.
Panzhihua Iron & Steel (Group) Co (Pangang Group)
Pengcheng Special Steel Co. Ltd.
Pingxiang Iron & Steel Co. Ltd.
Qingdao Baosen Steel Co. Ltd.
Qingdao Dtom Metal Products Co. Ltd.
Qingdao Hanmei Iron & Steel Co. Ltd.
Qingdao Pohang Stainless Steel Co. Ltd.
Quindao Weier Plastic Machinery Co. Ltd.
Quzhou Yuanli Metal Co. Ltd.
Richang Galvanized Plates Ltd.
Rizhao Steel Group
Sanbao Steel Group
Sansteel MinGuang Co. Ltd.
SGIS Songshan Co. Ltd.
Shaanxi Hongda Industry Co. Ltd.
Shaanxi Longmn Industry Co. Ltd.
Shanghai Huaye Iron & Steel Group Co. Ltd.
Shandong Dongding Steel Rolling Company
Shandong Fada Precision Sheet Co. Ltd.
Shandong Hong Shengda Steel Plate Co. Ltd.
Shandong Hua Stainless Steel Co. Ltd.
Shandong Iron & Steel Group
Shandong Kerui Steel Plate Co. Ltd.
Shandong Lu Steel (Group) Co. Ltd.
Shandong Taishan Iron & Steel Co. Ltd.
Shandong Yuanda Sheet Industry Tech Co. Ltd.
Shandong Zhongguan Steel Plate Co. Ltd.
Shanghai AN LAN Steel Co. Ltd.
Shanghai Chengtong Precision Strip Co. Ltd.
Shanghai Krupp Stainless Co. Ltd.
Shanghai Metal Corp.
Shanghai STAL Precision Stainless Steel Co. Ltd.
Shenzhen Zhaoheng Specialty Steel Co.
Shougang Group
Shougang Jingtang United Iron & Steel Co. Ltd.
Shunde Posco Coated Steel
Sichuan Changcheng Special Steel (Group) Co. Ltd.
Sichuan Tranvic Group Co. Ltd.
Sino-Coalition (Ningbo) Steel Production Co Ltd
Sinosteel Corp
South Polar Lights Steel (Shanghai) Co. Ltd.
Summary International Co. Ltd.
Taian Fortune Steel Co., Ltd.
Taizhou Yuxiang Stainless Steel Co. Ltd.
Taifeng Qiao Metal Products Co. Ltd.
Tangshan Fengfeng Cold Rolling Strip Steel Co. Ltd.
Tangshan Ganglu Iron & Steel Co Ltd
Tangshan Iron & Steel Group Co. Ltd.
Tangshan Shengcai Steel Co. Ltd.
Tianjin Daqiuzhuang Steel Co. Ltd.
Tianjin Haiqing Strip Steel Factory
Tianjin Hengxing Steel Industry Co. Ltd.
Tianjin Hongmei Steel Strips Co. Ltd.
Tianjin Iron & Steel Group Co. Ltd.
Tianjin Metallurgical No. 1 Steel Group Co. Ltd.
Tianjin Nanchen Steels Co. Ltd.
Tianjin Pipe (Group) Corp
Tianjin Rolling-one Steel Co. Ltd. (TROSCO)
Tianjin Tiantie Metallurgical Group
Tianjin Tiantie Zhaer Steel Production Co. Ltd.
Tianjin Xinyu Color Plate Co. Ltd.
Tianjin Jiecheng Galvanized Rolling Plate Co. Ltd.
Tianjin Yibo Steel Making Co. Ltd.
TISCO—Taiyuan Iron & Steel (Group) Co. Ltd.
Tonghua Steel Group
Topsky Steel Industry Co. Ltd.
Union Steel (China)
Valin ArcelorMittal Automotive Steel Co. Ltd.
Venus Holdings Shanghai Co. Ltd.
WISCO—Wuhan Iron & Steel (Group) Corp
Wuhan Iron & Steel Group Echeng Iron & Steel Co.
Wuxi Changjiang Sheet Metal Co. Ltd.
Wuxi New Dazhong Steel Co. Ltd.
Wuxi Xindazhong Steel Sheet Co., Ltd.
Wuxi Zhongcai New Material Co. Ltd.
Xiehe Group (Zhejiang Concord Group)
Xinjiang Bayi Iron & Steel Co. Ltd.
Xinyu Iron & Steel Co. Ltd.
Xuanhua Steel Group Co. Ltd.
Yantai Donghai Steel Strip Co. Ltd.
Yichang Three Gorges Quantong Coated and Galvanized Plate Co. Ltd.
Yuyao City Shuagniao Metal Strip Co. Ltd.
Yieh Phui China Tedrnomaterial Co. Ltd.
Yingkou Panpan Chaoshuo High-Tech Steel Co. Ltd.
Zhangjiagang New Gangxing Technology Co. Ltd.
Zhejiang Hengda Industrial Group Co. Ltd.
Zhejiang Huada Steel Industry Co. Ltd.
Zhangjiagang Pohang Stainless Steel Co. Ltd.
Zhangjiangang Kailai Stainless Steel Co. Ltd.
Zhejiang New Yongmao Stainless Steel Co. Ltd.
Zhejiang Shunda Weiye Materials Co. Ltd.
Zhejiang Southeast Metalsheet Co. Ltd.
Zhejiang Taigang Stainless Steel Co. Ltd.
Zhejiang Xingristeel Holding Group Co. Ltd.
Zhejiang Yuanli Group
Zhejiang Jiang Bozhou Steel Industry Co. Ltd.
Zhengzhou Tuopu Rolling Technology Co. Ltd.
Zhejiang Shenghua Steel Co. Ltd.
Zhicheng Steel Material Co. Ltd.
Zhongshan Nomura Steel Product Co. Ltd.
Zibo Fengyang Color Coated Steel Co. Ltd.
The People's Republic of China: Diamond Sawblades and Parts Thereof, A-570-900 | 11/1/18-10/31/19
ASHINE Diamond Tools Co., Ltd.
Bosun Tools Co., Ltd.
Chengdu Huifeng New Material Technology Co., Ltd.⁷
Danyang City Ou Di Ma Tools Co., Ltd.
Danyang Hantronic Import & Export Co., Ltd.
Danyang Huachang Diamond Tools Manufacturing Co., Ltd.
Danyang Like Tools Manufacturing Co., Ltd.
Danyang NYCL Tools Manufacturing Co., Ltd.
Danyang Tsunda Diamond Tools Co., Ltd.
Danyang Weiwang Tools Manufacturing Co., Ltd.
Guilin Tebon Superhard Material Co., Ltd.
Hangzhou Deer King Industrial and Trading Co., Ltd.
Hangzhou Kingburg Import & Export Co., Ltd.
Husqvarna (Hebei) Co., Ltd.⁸
Hebei XMF Tools Group Co., Ltd.
Henan Huanghe Whirlwind Co., Ltd.
Henan Huanghe Whirlwind International Co., Ltd.
Hong Kong Hao Xin International Group Limited
Hubei Changjiang Precision Engineering Materials Technology Co., Ltd.
Hubei Sheng Bai Rui Diamond Tools Co., Ltd.
Huzhou Gu's Import & Export Co., Ltd.
Jiangsu Fengtai Single Entity ⁹
Jiangsu Huachang Diamond Tools Manufacturing Co., Ltd.
Jiangsu Inter-China Group Corporation
Jiangsu Youhe Tool Manufacturer Co., Ltd.
Orient Gain International Limited
Pantos Logistics (HK) Company Limited
Pujiang Talent Diamond Tools Co., Ltd.
Qingdao Hyosung Diamond Tools Co., Ltd.
Qingyuan Shangtai Diamond Tools Co., Ltd.
Qingdao Shinhan Diamond Industrial Co., Ltd.
Quanzhou Zhongzhi Diamond Tool Co., Ltd.
Rizhao Hein Saw Co., Ltd.
Saint-Gobain Abrasives (Shanghai) Co., Ltd.
Shanghai Jingquan Industrial Trade Co., Ltd.
Shanghai Starcraft Tools Co., Ltd.
Sino Tools Co., Ltd.
Weihai Xiangguang Mechanical Industrial Co., Ltd.
Wuhan Baiyi Diamond Tools Co., Ltd.
Wuhan Sadia Trading Co., Ltd.
Wuhan Wanbang Laser Diamond Tools Co., Ltd.¹⁰
Wuhan ZhaoHua Technology Co., Ltd.
Xiamen ZL Diamond Technology Co., Ltd.
Zhejiang Wanli Tools Group Co., Ltd.
ZL Diamond Technology Co., Ltd.
ZL Diamond Tools Co., Ltd.
The People's Republic of China: Fresh Garlic, A-570-831 | 11/1/18-10/31/19
China Jiangsu International Economic Technical Cooperation Corporation
Hebei Holy Flame International
Jining Alpha Food Co., Ltd.
Jinxiang Qingtian Garlic Industries
Qingdao Maycarrier Import & Export Co., Ltd.
Qingdao Ritai Food Co., Ltd.
Shandong Happy Foods Co., Ltd.
Shijiazhuang Goodman Trading Co., Ltd.
Weifang Hongqiao International Logistics Co., Ltd.
Yingxin (Wuqiang) International Trade
Zhengzhou Harmoni Spice Co., Ltd.
The People's Republic of China: Forged Steel Fittings, A-570-067 | 5/1/18-10/31/19
Both-Well (Taizhou) Steel Fittings Co., Ltd.
Both-Well Taizhou Steel Fittings Co., Ltd.
Cixi Baicheng Hardware Tools, Ltd.
Dalian Guangming Pipe Fittings Co., Ltd.
Eaton Hydraulics (Luzhou) Co., Ltd.
Eaton Hydraulics (Ningbo) Co., Ltd.
Jiangsu Forged Pipe Fittings Co., Ltd.
Jiangsu Haida Pipe Fittings Group Co.
Jinan Mech Piping Technology Co., Ltd.
Jining Dingguan Precision Parts Manufacturing Co., Ltd.
Lianfa Stainless Steel Pipes & Valves (Qingyun) Co., Ltd.
Luzhou City Chengrun Mechanics Co., Ltd.
Ningbo HongTe Industrial Co., Ltd.
Ningbo Long Teng Metal Manufacturing Co., Ltd.
Ningbo Save Technology Co., Ltd.
Ningbo Zhongan Forging Co., Ltd.
Q.C. Witness International Co., Ltd.
Qingdao Bestflow Industrial Co., Ltd.
Shanghai Lon Au Stainless Steel Materials Co., Ltd.
Witness International Co., Ltd.
Xin Yi International Trade Co., Limited
Yancheng Boyue Tube Co., Ltd.
Yancheng Haohui Pipe Fittings Co., Ltd.
Yancheng Jiuwei Pipe Fittings Co., Ltd.
Yancheng Manda Pipe Industry Co., Ltd
Yingkou Guangming Pipeline Industry Co., Ltd.
Yuyao Wanlei Pipe Fitting Manufacturing Co., Ltd.
The People's Republic of China: Lightweight Thermal Paper, A-570-920 | 11/1/18-10/31/19
Avery Dennison (China) Co., Ltd.
Dong Nam Pack
Gold Huasheng Paper (Suzhou IP) Co.
Gold Shengpu Paper Products (Suzhou)
Henan Jianghe Paper Co. Ltd.
Jinan Fuzhi Paper Co., Ltd.
Pax Technology Limited
Prosper (HK) Co., Ltd.
Sailing International Limited
Shenzhen Formers Printing Co., Ltd.
Shenzhen HDB Network Technology
Shenzhen Speedy Import & Export Co., Ltd.
Suzhou Xiandai Paper Production Co.
SYCDA Company Limited
Wuxi Honglinxin International Trade
Xiamen ATP Technology Co. Ltd.
The People's Republic of China: Monosodium Glutamate, A-570-992 | 11/1/18-10/31/19
China-Wide Entity
Bengbu Junyang Business Trade Co., Ltd.
Fujian Province Jianyang Wuyi Msg Co., Ltd.
Golden Banyan Foodstuffs Industry Co., Ltd.
Hong Kong Sungiven International Food Co., Limited
Hugo International Ltd.
Hulunbeier Northeast Fufeng Biotechnologies Co., Ltd.
Jinan Yami Co., Ltd.
Jining Shangzhuo Food Co., Ltd.
Kang Hui Trading Limited
King Cheong Hong International Trade Limited
Ldco Food Group Limited
Liangshan Linghua Biotechnology Co., Ltd.
Lotus Health Industry Holding Group
Meihua Group International Trading (Hong Kong) Limited
Neimenggu Fufeng Biotechnologies
Ningbo Ningtai Make Wine Co., Ltd.
Qingdao Galike Trading Co., Ltd.
Sakura Food Group Limited
Scigate Industries Sdn. Bhd.
Shandong Linghua Monosodium Glutamate Incorporated Company
Shijiazhuang Standard Imp&Exp Co.
Tongliao Meihua Biological Sci-Tech Co., Ltd.
Vega Pharma Limited
The People's Republic of China: Multilayered Wood Flooring, A-570-970 | 12/1/17-11/30/18
Changzhou Hawd Flooring Co., Ltd.¹¹
The People's Republic of China: Polyethylene Terephthalate (Pet) Film, A-570-924 | 11/1/18-10/31/19
Fuwei Films (Shandong) Co., Ltd.
Shaoxing Xiangyu Green Packing Co., Ltd.
Sichuan Dongfang Insulating Material Co., Ltd.
Tianjin Wanhua Co., Ltd.
The People's Republic of China: Seamless Refined Copper Pipe and Tube, A-570-964 | 11/1/18-10/31/19
Golden Dragon Precise Copper Tube Group, Inc.
Hong Kong GD Trading Co., Ltd.
Golden Dragon Holding (Hong Kong) International, Ltd.
The People's Republic of China: Steel Wire Garment Hangers,¹² A-570-918 | 10/1/18-9/30/19
United Arab Emirates: Polyethylene Terephthalate (Pet) Film, A-520-803 | 11/1/18-10/31/19
Flex Middle East FZE
CVD Proceedings
India: Stainless Steel Flanges,¹³ C-533-878 | 1/23/18-12/31/18
Echjay Forgings Private Limited
JAY JAGDAMBA FORGINGS PRIVATE LIMITED
Jay Jagdamba Ltd.
JAY JAGDAMBA LIMITED
JAY JAGDAMBA PROFILE PRIVATE LIMITED
India: Welded Stainless Pressure Pipe, C-533-868 | 1/1/18-12/31/18
Shah Foils Ltd.
Sun Mark Stainless Pvt. Ltd.
Sunrise Stainless Private Limited
Republic of Korea: Certain Hot-Rolled Steel Flat Products,¹⁴ C-580-884 | 1/1/18-12/31/18
Hyundai Steel Company
JFE Shoji Trade Korea Ltd.
The People's Republic of China: Forged Steel Fittings, C-570-068 | 3/14/18-12/31/18
Apco Pipe Fittings Co., Ltd.
Both-Well (Taizhou) Steel Fittings Co., Ltd.
Both-Well Taizhou Steel Fittings Co., Ltd.
Cixi Baicheng Hardware Tools, Ltd.
Dalian Guangming Pipe Fittings Co., Ltd.
Eaton Hydraulics (Luzhou) Co., Ltd.
Eaton Hydraulics (Ningbo) Co., Ltd.
Feiting Hi-Tech Piping Zhejiang Co., Ltd
Hebei Haiyuan Pipe Fittings Co., Ltd.
Hebei Xinyue High Pressure Flange And Pipe Fitting Co., Ltd.
Jiangsu Forged Pipe Fittings Co., Ltd.
Jiangsu Haida Pipe Fittings Group Co., Ltd.
Jiangyin Tianning Metal Pipe Fitting Co., Ltd.
Jiangyin Yangzi Fitting Co., Ltd.
Jinan Mech Piping Technology Co., Ltd.
Jining Dingguan Precision Parts Manufacturing Co., Ltd.
Lianfa Stainless Steel Pipes & Valves (Qingyun) Co., Ltd.
Luzhou City Chengrun Mechanics Co., Ltd.
Ningbo HongTe Industrial Co., Ltd.
Ningbo Long Teng Metal Manufacturing Co., Ltd.
Ningbo Save Technology Co., Ltd.
Ningbo Zhongan Forging Co., Ltd.
Q.C. Witness International Co., Ltd.
Qingdao Bestflow Industrial Co., Ltd.
Shanghai Lon Au Stainless Steel Materials Co., Ltd.
Shanghai Longnai High Pressure Pipe Fittings Co., Ltd.
Shanghai Tongyang Pipe Fittings Co., Ltd.
Shanghai Yochoic Pipefittings Co., Ltd.
Witness International Co., Ltd.
Xin Yi International Trade Co., Limited
Yancheng Boyue Tube Co., Ltd.
Yancheng Haohui Pipe Fittings Co., Ltd.
Yancheng Jiuwei Pipe Fittings Co., Ltd.
Yancheng Manda Pipe Industry Co., Ltd.
Yingkou Guangming Pipeline Industry Co., Ltd.
Yingkou Liaohe Machinery & Pipe Fittings Co., Ltd.
Yuyao Wanlei Pipe Fitting Manufacturing Co., Ltd.
Turkey: Steel Concrete Reinforcing Bar, C-489-819 | 1/1/18-12/31/18
Acemar International Limited
A G Royce Metal Marketing
Agir Haddecilik A.S.
As Gaz Sinai ve Tibbi Gazlar A.S.
Asil Celik Sanayi ve Ticaret A.S.
Atakas Celik Sanayi ve Ticaret A.S.
Bastug Metalurji Sanayi A.S.
Colakoglu Dis Ticaret A.S.
Colakoglu Metalurji A.S.
Demirsan Haddecilik Sanayvi Ve Ticaret A.S.
Diler Dis Ticaret A.S.
Duferco Investment Services SA
Duferco Celik Ticaret Limited
Ege Celik Endustrisi Sanayi ve Ticaret A.S.
Ekinciler Demir ve Celik Sanayi Anonim Sirketi
Habas Sinai ve Tibbi Gazlar Istihsal Endustrisi A.S.¹⁵
Icdas Celik Enerji Tersane ve Ulasim Sanayi A.S.
Izmir Demir Celik Sanayi A.S.
Kaptan Demir Celik Endustrisi ve Ticaret A.S.
Kaptan Metal Dis Ticaret Ve Nakliyat A.S.
Kibar Dis Ticaret A.S.
Kocaer Haddecilik Sanayi Ve Ticar
Mettech Metalurji Madencilik Muhendislik Uretim Danismanlik ve Ticaret Limited Sirketi
MMZ Onur Boru Profil A.S.
Ozkan Demir Celik Sanayi A.S.
Wilmar Europe Trading BV
Suspension Agreements
Ukraine: Certain Cut-To-Length Carbon Steel Plate, A-823-808 | 11/1/18-10/31/19

Duty Absorption Reviews

⁶ These companies were inadvertently combined on a single line in the previous initiation notice. See December Initiation Notice, 84 FR at 67712.

⁷ Commerce determined that Chengdu Huifeng New Material Technology Co., Ltd. is the successor-in-interest to Chengdu Huifeng Diamond Tools Co., Ltd. and for which Commerce received a request for review. See Diamond Sawblades and Parts Thereof from the People's Republic of China: Final Results of Antidumping Duty Changed Circumstances Review, 82 FR 60177 (December 19, 2017).

⁸ Commerce determined that Husqvarna (Hebei) Co., Ltd. is the successor-in-interest to Hebei Husqvarna Jikai Diamond Tools Co., Ltd. and for which Commerce received a request for review. See Diamond Sawblades and Parts Thereof from the People's Republic of China: Final Results of Antidumping Duty Changed Circumstances Review, 78 FR 48414 (August 8, 2013).

⁹ Jiangsu Fengtai Diamond Tool Manufacture Co., Ltd., Jiangsu Fengtai Tools Co., Ltd., and Jiangsu Fengtai Sawing Industry Co., Ltd., comprise the Jiangsu Fengtai Single Entity. See Diamond Sawblades and Parts Thereof from the People's Republic of China: Final Results of Antidumping Duty Administrative Review; 2014-2015, 82 FR 26912, 26913, n. 5 (June 12, 2017). We received review requests for Jiangsu Fengtai Diamond Tool Manufacture Co., Ltd., and Jiangsu Fengtai Tools Co., Ltd.

¹⁰ Commerce determined that Wuhan Wanbang Laser Diamond Tools Co., Ltd. is the successor-in-interest to Wuhan Wanbang Laser Diamond Tools Co. and for which Commerce received a request for review. See Diamond Sawblades and Parts Thereof from the People's Republic of China: Final Results of Antidumping Duty Changed Circumstances Review, 81 FR 20618 (April 8, 2016).

¹¹ Commerce inadvertently omitted this company from the initiation notice that published on March 14, 2019 (84 FR 9297).

¹² In the initiation notice that published on December 11, 2019 (84 FR 67712) the period of review for the above referenced case was incorrect. The period listed above is the correct POR for this case.

¹³ These companies contained inadvertent spelling or grammatical mistakes and one company was omitted in the prior initiation notice. See December Initiation Notice, 84 FR at 67712.

¹⁴ These companies were inadvertently combined on a single line in the previous initiation notice. See December Initiation Notice, 84 FR at 67712.

¹⁵ Entries of merchandise produced and exported by Habas Sinai ve Tibbi Gazlar Istihsal Endustrisi A.S. are excluded from the countervailing duty order. See Steel Concrete Reinforcing Bar from the Republic of Turkey: Final Affirmative Countervailing Duty Determination Final Affirmative Critical Circumstances Determination, 79 FR 54963 at 54964 (September 15, 2014). This initiation notice covers entries of merchandise (1) produced by any other entity and exported by Habas Sinai ve Tibbi Gazlar Istihsal Endustrisi A.S. or (2) produced by Habas Sinai ve Tibbi Gazlar Istihsal Endustrisi A.S. and exported by another entity.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁶ available at http://enforcement.trade.gov/frn/2013/1304frn/2013-08227.txt, prior to submitting factual information in this segment.

¹⁶ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Any party submitting factual information in an AD or CVD proceeding must certify to the accuracy and completeness of that information using the formats provided at the end of the Final Rule.¹⁷ Commerce intends to reject factual submissions in any proceeding segments if the submitting party does not comply with applicable certification requirements.

¹⁷ See section 782(b) of the Act; see also Final Rule; and the frequently asked questions regarding the Final Rule, available at http://enforcement.trade.gov/tlei/notices/factual_info_final_rule_FAQ_07172013.pdf.

Extension of Time Limits Regulation

Parties may request an extension of time limits before a time limit established under Part 351 expires, or as otherwise specified by Commerce.¹⁸ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at http://www.gpo.gov/fdsys/pkg/FR-2013-09-20/html/2013-22853.htm, prior to submitting factual information in these segments.

¹⁸ See 19 CFR 351.302.

These initiations and this notice are in accordance with section 751(a) of the Act (19 U.S.C. 1675(a)) and 19 CFR 351.221(c)(1)(i).

Dated: January 13, 2020.
James Maeder,
Deputy Assistant Secretary for Antidumping and Countervailing Duty Operations.

[FR Doc. 2020-00748 Filed 1-16-20; 8:45 am]

BILLING CODE 3510-DS-P